DEPARTMENT OF AGRICULTURE

Agricultural Marketing Service

[Docket No. AMS-SC-23-0010]

Meeting of the Fruit and Vegetable Industry Advisory Committee

AGENCY: Agricultural Marketing Service, USDA.

ACTION: Notice of public meeting.

SUMMARY: In accordance with the Federal Advisory Committee Act, as amended, the Agricultural Marketing Service (AMS), U.S. Department of Agriculture (USDA), is announcing a meeting of the Fruit and Vegetable Industry Advisory Committee (FVIAC). This meeting is being convened to examine the full spectrum of fruit and vegetable industry issues and provide recommendations and ideas on how USDA can tailor programs and services to better meet the needs of the U.S. produce industry. Agenda items may include, but are not limited to, administrative matters; presentations by subject matter experts as requested by the FVIAC; and consideration of recommendations pertaining to labor and production, food safety, infrastructure and sustainability, consumption and nutrition, and data reporting and analysis.

DATES: An in-person meeting will be held April 19-20, 2023, from 9 a.m. to approximately 4 p.m. Eastern Time (ET) each day. In-person oral comments will be heard on Wednesday, April 19, 2023. The deadline to submit written comments and/or sign up for oral comments is 11:59 p.m. ET, Monday, April 3, 2023.

Written Comments: Written public comments will be accepted until 11:59 p.m. ET on Monday, April 3, 2023, via https://www.regulations.gov: Document # AMS-SC-23-0010. Comments submitted after this date will be provided to AMS, but the Committee may not have adequate time to consider those comments prior to the meeting. AMS, Specialty Crops Program, strongly prefers that written comments be submitted electronically. However, written comments may also be submitted (i.e., postmarked) via mail to the person listed in the FOR FURTHER INFORMATION CONTACT section by or before the deadline.

Oral Comments: FVIAC will hear oral public comments on Wednesday, April 19, 2023. Persons or organizations wishing to make oral comments must pre-register by 11:59 p.m. ET, April 3, 2023, and can register for only one speaking slot. Instructions for registering and participating in the meeting can be obtained by contacting the person listed in the FOR FURTHER INFORMATION CONTACT section by or before the deadline.

ADDRESSES: The Committee meeting will be held in Room 107-A of the Whitten Building at 1400 Independence Avenue SW, Washington, DC 20250. Entry to the Whitten Building is through the front building entrance on Jefferson Drive; valid photo identification is required. Detailed information pertaining to the in-person meeting can be found at https://www.ams.usda.gov/event/usda-fruit-and-vegetable-industry-advisory-committee-meeting-2.

FOR FURTHER INFORMATION CONTACT: Darrell Hughes, Designated Federal Officer, Fruit and Vegetable Industry Advisory Committee, USDA-AMS-Specialty Crops Program, 1400 Independence Avenue SW, Suite 1575, STOP 0235, Washington, DC 20250-0235; Telephone: (202) 378-2576; Email: SCPFVIAC@usda.gov.

SUPPLEMENTARY INFORMATION: Pursuant to the Federal Advisory Committee Act (FACA) (5 U.S.C. App. 2), the Secretary of Agriculture (Secretary) established the Committee in 2001 to examine the full spectrum of issues faced by the fruit and vegetable industry and to provide suggestions and ideas to the Secretary on how USDA can tailor its programs to meet the U.S. fruit and vegetable industry's needs.

The AMS Chief of Staff for the Specialty Crops Program serves as the Committee's Designated Federal Officer, leading the effort to administer the Committee's activities. Representatives from USDA mission areas and other government agencies affecting the fruit and vegetable industry are periodically called upon to participate in the Committee's meetings as determined by the Committee. AMS is giving notice of the Committee meeting to the public so that they may participate and present their views via written comments. The meeting is open to the public on a first-come, first-served basis. Space is limited. The meeting agenda will be made available on the web page listed in the ADDRESSES section.

Written Comments: Written public comments will be accepted until 11:59 p.m. ET on Monday, April 3, 2023 via https://www.regulations.gov: Document # AMS-SC-23-0010. Comments submitted after this date will be provided to AMS, but the Committee may not have adequate time to consider those comments prior to the meeting. AMS, Specialty Crops Program, strongly prefers that written comments be submitted electronically. However, written comments may also be submitted (i.e., postmarked) via mail to the person listed in the FOR FURTHER INFORMATION CONTACT section by or before the deadline.

Oral Comments: FVIAC will hear oral public comments on Wednesday, April 19, 2023. Persons or organizations wishing to make oral comments must pre-register by 11:59 p.m. ET, April 3, 2023, and can register for only one speaking slot. Instructions for registering and participating in the meeting can be obtained by contacting the person listed in the FOR FURTHER INFORMATION CONTACT section by or before the deadline.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section. Determinations for reasonable accommodation will be made on a case-by-case basis.

Dated: February 13, 2023.
Cikena Reid,
USDA Committee Management Officer.

[FR Doc. 2023-03978 Filed 2-24-23; 8:45 am]

BILLING CODE 3410-02-P